DEPARTMENT OF TRANSPORTATION

National Highway Traffic Safety Administration

49 CFR Part 571

[Docket No. NHTSA-02-11876]

Public Meeting on Motorcoach Safety Improvements

AGENCY: National Highway Traffic Safety Administration (NHTSA), DOT.

ACTION: Notice of public meeting; request for comments.

SUMMARY: This notice announces that NHTSA will be holding a public meeting regarding improvements in passenger crash protection regulations for motorcoaches. Because Canada shares a common interest in the safety of passengers that ride in motorcoaches, this meeting is being held jointly in cooperation with Transport Canada. This notice invites persons to make presentations and submit written comments on the same subject.

NHTSA and Transport Canada recognize that the occupant protection issues for motorcoaches differ significantly from those of passenger cars and trucks. Safety countermeasures that are cost effective for passenger vehicles may not necessarily be as effective in motorcoaches, particularity given travel comfort expectations associated with long distance travel by motorcoach. Therefore, it was decided to hold this public meeting to hear the views and comments from manufacturers, operators, users, and the public at large in order to be better informed of their specific needs, and to help us determine whether improvements in motorcoach passenger crash protection standards are warranted.

DATES: Public Meeting: NHTSA will hold a public meeting in Washington, DC on April 30, 2002, from 9:30 am until 5 pm at the below listed address.

Written Comments: Written requests to speak at the public meeting, comments to be submitted for the public record, and suggestions for items to be included in the meeting agenda, should be received at Docket Management at the below address no later than April 29, 2002.

ADDRESSES: Public Meeting: The public meeting will be held at the National Transportation Safety Board's meeting room at 429 L'Enfant Plaza, SW., Washington, DC.

Written Comments: Submit written comments to the DOT Docket Management System, U.S. Department of Transportation, PL 401, 400 Seventh Street, SW., Washington, DC 20590-0001.

Comments should refer to the Docket Number (NHTSA-02-11876) and two copies should be submitted. If you wish to receive confirmation of receipt of your written comments, include a self-addressed, stamped postcard.

Comments may also be submitted to the docket electronically by logging onto the DOT Docket Management System Web site at http://dms.dot.gov. Click on “Help & Information” to obtain instructions for filing the comment electronically. In every case, the comment should refer to the Docket Number.

FOR FURTHER INFORMATION CONTACT: Charles Hott, Office of Crashworthiness Standards, NPS-12, NHTSA, 400 7th Street, SW., Washington, DC 20590 (telephone 202-366-0247, Fax: 202-493-2739).

Crash Statistics

Historically, motorcoaches (intercity buses) have been a relatively safe mode of transportation with about 10 fatalities per year (9 passengers and 1 driver). However, in severe crashes and rollovers, motorcoach passengers may have not been provided sufficient crash protection against ejection from the motorcoach. Data from the Fatality Analysis Reporting Systems supplemented by the National Transportation Safety Board (NTSB) was used to obtain the following information about motorcoach fatalities. As shown in Table 1, during the period of 1991 through 2000, there were 48 motorcoach crashes resulting in 101 motorcoach fatalities (16 drivers and 85 passengers). Of the 16 driver fatalities, 12 percent (2) were ejected from the bus and 88 percent (12) were not ejected. Of the 85 passenger fatalities, 55 percent (47) were ejected from the bus and 45 percent (37) were not ejected, (one passenger had an unknown ejection status).

Table 1.—1991-2000 Motorcoach Fatalities
48 Crashes | Total | Ejected | Not ejected | Unknown
Driver | 16 | 2 | 14 |
Passenger | 85 | 47 | 37 | 1
Total | 101 | 49 | 51 | 1

A large number of motorcoach fatalities occur in crashes involving motorcoach rollover. In fact, during the 19912000 period, the motorcoach rolled over in 18 of the 48 fatal crashes resulting in 37 fatalities (2 drivers and 35 passengers). Fatality data is shown in Table 2. Of the 35 passenger fatalities, 74 percent (26) were ejected from the bus and 26 percent (9) were not ejected. There were two driver fatalities, one ejected and one not ejected.

Table 2.—1990-1999 Motorcoach Fatalities (Rollover Crashes)
18 Crashes | Total | Ejected | Not ejected
Driver | 2 | 1 | 1
Passenger | 35 | 26 | 9
Total | 37 | 27 | 10

As shown in Table 3, there were 30 non-rollover crashes that produced 64 fatalities, 14 drivers and 50 passengers. Of the 50 passenger fatalities, 42 percent (21) were ejected from the bus and 58 percent (28) remained inside the bus. There were 14 driver fatalities. It should be noted that a single crash, where the bus did not rollover, produced 44 percent (22) of the passenger fatalities.

Table 3.—1990-1999 Motorcoach Fatalities (Non-Rollover Crashes)
30 Crashes | Total | Ejected | Not ejected | Unknown
Driver | 12 | 2 | 10 |
Passenger | 50 | 21 | 28 | 1
Total | 64 | 23 | 38 | 1

National Transportation Safety Board Recommendations

In September 1999, the National Transportation Safety Board (NTSB) made several safety recommendations to the agency regarding regulations for improvement of passenger crash protection, roof crush, and advance glazing research in motorcoaches. The Safety Recommendations are as follows:

H-99-47—In 2 years, develop performance standards for motorcoach occupant protection systems that account for frontal impact collisions, side impact collisions, rear impact collisions, and rollovers.

H-99-48—Once pertinent standards have been developed for motorcoach occupant protection systems, require newly manufactured motorcoaches to have an occupant crash protection system that meets the newly developed performance standards and retains passengers, including those in child restraint systems, within the seating compartment throughout the accident sequence for all accident scenarios.

H-99-49—Expand your research on current advanced glazing to include its applicability to motorcoach occupant ejection prevention, and revise window glazing requirements for newly manufactured motorcoaches based on the results of this research.

H-99-50—In 2 years, develop performance standards for motorcoach roof strength that provide maximum survival space for all seating positions and that take into account current typical motorcoach window dimensions.

H-99-51—Once performance standards have been developed for motorcoach roof strength, require newly manufactured motorcoaches to meet those standards.

In a March 3, 2000 letter to NTSB, the agency responded to NTSB with the following:

In addressing this issue, NHTSA must also consider using its limited resources most efficiently. * * * The crashworthiness issues about motorcoaches the Safety Board raised deserve to be analyzed. Therefore, NHTSA will examine opportunities to share the cost of research with motorcoach manufacturers. The Safety Board's suggested time limitation of two years is not achievable given current resources. NHTSA asks that the Safety Board take under consideration that for many of the safety issues raised, appropriate industry standards are not in place on which to base regulations. Therefore, primary research needs to be performed prior to the issuance of any regulation.

The motorcoach manufacturers have now formed a bus manufacturer's council to address safety issues regarding motorcoaches.

Issues

This section discusses a range of issues and presents a series of questions for public comment to aid the agency in evaluating motorcoach safety protection and in determining potential improvements in motorcoach passenger crash protection standards.

(1) NHTSA and Transport Canada recognize that a two-tier approach is needed to improve occupant protection in motorcoaches. The first tier is the prevention of the crash or rollover event from occurring. There are technologies that are currently being developed for use in passenger cars, such as (i) smart cruise control, (ii) stability control, and (iii) equipment that warns the driver of inadvertent lane changes. Are there technologies being developed, or that can be developed, that will reduce the likelihood of a crash or rollover for use in motorcoaches?

(2) The second tier is the mitigation of fatalities/injuries should a crash or rollover event occur. As stated earlier, passenger ejection appears to be a significant factor in severe motorcoach crashes and rollover events. Accident investigations reveal that large windows typically break away in a rollover, leaving large portals through which passengers can be ejected. We are interested in obtaining views on what structural changes in motorcoach design would be needed to mitigate ejection fatalities/injuries from motorcoach rollover events.

(3) Mitigation of ejection fatalities/injuries can be done by limiting the size of the glazing materials, and also by upgrading the standard for window retention and emergency exits in motorcoaches so that the windows do not come open or break during crashes or rollover events. Limiting the size of the glazing would offer smaller portals for ejection and reduces the likelihood of ejection during a rollover event. What changes to the existing regulation on window retention and emergency exits would be necessary to limit the size of the glazing and upgrade the standard to make it more applicable to the type of buses manufactured today? Should the agency change the window retention requirements to require that the windows be manufactured from materials that will not breakaway during impacts?

(4) Another possible improvement for motorcoaches may be to introduce a roof crush safety standard for motorcoaches. Such a standard could conceivably limit the size of the windows while providing additional structural support that could reduce intrusion into the passenger compartment during rollover events. What is the best approach to developing a roof crush standard that could conceivably maintain the size of the windows while providing additional structural support that could reduce intrusion into the passenger compartment during rollover events?

(5) We are aware that new technology of side curtain airbags is currently being offered in passenger cars. Passenger car side curtains may reduce the likelihood of ejection of unrestrained passengers. Some aspects of this technology may be adaptable for use in motor coaches. We are interested in any comments regarding the use of this or other technologies to reduce motorcoach ejections.

(6) Restraint systems are another possibility for mitigating ejection fatalities/injuries in motorcoach crashes. Technology was examined during NHTSA's school bus occupant protection research program to determine the feasibility for integrated lap/shoulder belts in school buses. What changes in the structure of the motorcoach would be necessary to ensure that the seats and seat belts have adequate strength to withstand impacts? What modifications to seat reclining features would be needed? What seat belt usage rates would be anticipated? What occupant size ranges would be necessary to accommodate for belt comfort and convenience?

(7) Another area of concern is occupant fatalities/injuries that are caused by head impact into interior components. Motorcoaches have features such as seat back lap trays and television monitors that are not normally found in general passenger vehicles. We are seeking comments on how to bring about occupant interior impact safety improvements, while recognizing that these features are for the comfort of passengers on long trips.

Procedural Matters

If you wish to make a presentation at the meeting, please contact Charles Hott at the above mailing address or telephone number by April 26, 2002. If your presentation will include slides, motion pictures, or other visual aids, please so indicate and NHTSA will make the proper equipment available. Presenters should bring at least one copy of their presentation to the meeting so that NHTSA can readily include the material in the public record. Those speaking at the public meeting should limit the length of their presentations to 20 minutes. Due to time imitations, NHTSA may have to limit the number of presenters per organization. NHTSA will provide auxiliary aids to participants as necessary. Any person desiring “auxiliary aids” (e.g., sign language interpreter, telecommunications devices for deaf persons (TDDs), readers, taped texts, brailed materials, or large print materials and/or a magnifying device), please contact Charles Hott.

The agency intends to conduct the meeting informally to allow for maximum participation by all who attend. Interested persons may ask questions or provide comments during any period after a party has completed its presentation, on a time allowed basis as determined by the presiding official. If time permits, persons who have not requested time to speak, but would like to make a statement, will be afforded an opportunity to do so. The agency is interested in obtaining the views of its customers, both orally and in writing. An agenda for the meeting will be made based on the number of persons wishing to make oral presentations and will be available on the day of the meeting.

If a commenter wishes to submit certain information under a claim of confidentiality, three copies of the complete submission, including purportedly confidential business information, should be submitted to the Chief Counsel, NHTSA, Room 5219, at the street address given above, and copies from which the purportedly confidential information has been deleted should be submitted to the Docket Section. A request for confidentiality should be accompanied by a cover letter setting forth the information specified in the agency's confidential business information regulation (49 CFR part 512).

All comments received before the close of business on the comment closing date indicated above will be considered. Comments will be available for inspection in the docket. After the closing date, NHTSA will continue to file relevant information in the docket as it becomes available. It is therefore recommended that interested persons continue to examine the docket for new material.

Authority: 49 U.S.C. 322, 30111, 30115, 30117, and 30166; delegation of authority at 49 CFR 1.50.

Issued: March 21, 2002.
Stephen R. Kratzke,
Associate Administrator, for Safety Performance Standards.

[FR Doc. 02-7366 Filed 3-27-02; 8:45 am]

BILLING CODE 4910-59-P